DEPARTMENT OF LABOR

Office of the Secretary

Agency Information Collection Activities; Submission for OMB Review; Comment Request; Pre-Implementation Planning Checklist Report for State Unemployment Insurance Information Technology Modernization Projects

ACTION: Notice of availability; request for comments.

SUMMARY: The Department of Labor (DOL) is submitting this Employment and Training Administration (ETA)-sponsored information collection request (ICR) to the Office of Management and Budget (OMB) for review and approval in accordance with the Paperwork Reduction Act of 1995 (PRA). Public comments on the ICR are invited.

DATES: The OMB will consider all written comments that agency receives on or before June 3, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Crystal Rennie by telephone at 202-693-0456 (this is not a toll-free number) or by email at DOL_PRA_PUBLIC@dol.gov.

SUPPLEMENTARY INFORMATION: Unemployment Insurance (UI) Information Technology (IT) Modernization Pre-Implementation Planning Checklist for states to use prior to “going live” with a new UI Benefits and/or Tax system. The checklist can be used to verify that all necessary system functions are available and/or that alternative workarounds are developed prior to the production launch of the UI IT system to help avoid major disruption of services to UI customers and to prevent delays in making UI benefit payments when due. This comprehensive checklist denotes critical functional areas that states should verify prior to launching a new UI IT system including, but not limited to, technical IT functions and UI business processes that interface with the new system. For additional substantive information about this ICR, see the related notice published in the Federal Register on November 7, 2019 (84 FR 60114).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-ETA.

Title of Collection: Pre-Implementation Planning Checklist Report for State Unemployment Insurance Information Technology Modernization Projects.

OMB Control Number: 1205-0527.

Affected Public: State, Local, and Tribal Governments.

Total Estimated Number of Respondents: 24.

Total Estimated Number of Responses: 24.

Total Estimated Annual Time Burden: 576 hours.

Total Estimated Annual Other Costs Burden: $0.

Authority: 44 U.S.C. 3507(a)(1)(D).

Dated: April 27, 2020.
Anthony May,
Acting Departmental Clearance Officer.

[FR Doc. 2020-09367 Filed 5-1-20; 8:45 am]

BILLING CODE 4510-FW-P